ENVIRONMENTAL PROTECTION AGENCY

[FRL—8334-8]

Clean Air Act Operating Permit Program; Petition for Objection to South Dakota State Operating Permit for GCC Dacotah Cement Manufacturing Plant, Rapid City, SD

AGENCY: Environmental Protection Agency (EPA).

ACTION: Notice of direct final Order.

SUMMARY: This notice announces that the EPA Administrator has responded to a citizens' petition asking EPA to object to a State operating permit issued by the South Dakota Department of Environmental and Natural Resources (DENR). Specifically, the Administrator has partially granted and partially denied the petition submitted by Jeremy Nichols, and the other Petitioners, to object to the issuance of the operating permit issued to GCC Dacotah Cement Manufacturing Plant (“GCC Dacotah”), located in Rapid City, South Dakota.

Pursuant to section 505(b)(2) of the Clean Air Act (Act), Petitioners may seek judicial review of those portions of the petition which EPA denied in the United States Court of Appeals for the appropriate Circuit. Any petition for review shall be filed within 60 days of the date this notice appears in the Federal Register, pursuant to section 307(d) of the Act.

ADDRESSES: You may review copies of the final Order, the petition, and other supporting information at the Environmental Protection Agency, Region 8, 1595 Wynkoop Street, Denver, Colorado, 80202-1129 after June 30, 2007. EPA requests that you contact the individual listed in the FOR FURTHER INFORMATION CONTACT section to view the copies of these documents. You may view these documents Monday through Friday, 8 a.m. to 4 p.m., excluding federal holidays. If you wish to examine these documents, you should make an appointment at least 24 hours before the visiting day. The final Order is also available electronically at each of the following addresses: http://www.epa.gov/region07/programs/artd/air/title5/petitiondb/petitions/dacotah_decision2006.pdf and http://www.epa.gov/region07/programs/artd/air/title5/petitiondb/petitiondb2006.htm

FOR FURTHER INFORMATION CONTACT: Christopher Ajayi, Environmental Engineer, Air and Radiation Program, Office of Partnerships and Regulatory Assistance, Mail Code 8P-AR, U.S. Environmental Protection Agency, Region 8, 1595 Wynkoop Street, Denver, CO 80202-1129, telephone (303) 312-6320, or e-mail at ajayi.christopher@epa.gov.

SUPPLEMENTARY INFORMATION: The Clean Air Act (Act) affords EPA a 45-day period to review and object to, as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the Petitioner demonstrates that it was impracticable to object during the comment period or that the grounds for the objection or other issues arose after this period.

On January 18, 2006, the EPA received a petition from Petitioners requesting that EPA object to the issuance of the Title V operating permit issued by South Dakota Department of Environmental and Natural Resources (DENR) to GCC Dacotah Cement Manufacturing Plant in Rapid City, South Dakota (“the Facility”).

The Petitioners request that EPA object to the issuance of the proposed permit and raise the following objections as the bases for their petition:

1. The permit fails to ensure low sulfur coal is utilized to ensure compliance with BACT for Sulfur Dioxide emissions;

2. the permit fails to require the baghouses and electrostatic precipitators for control of Particulate Matter (PM) be operated and maintained in any specific way to ensure they control particulate emissions within acceptable limits;

3. the permit is vague, lacks enforceability and is inadequate to ensure compliance with PM limits;

4. the permit fails to require sufficient monitoring of BACT for Nitrogen Oxide emissions;

5. the permit fails to require operation and maintenance of equipment according to manufacture's specification thereby failing to ensure compliance with BACT for CO emissions;

6. the permit fails to require continuous PM monitoring or in the alternative fails to require sufficient periodic monitoring of PM for several units (kilns and clinker coolers);

7. the permit does not require prompt reporting of permit violations;

8. the permit fails to require prompt reporting of permit deviations;

9. the permit fails to require sufficient periodic monitoring in Condition 6.1 for the presence of uncombined water and/or its effects on opacity;

10. the permit fails to require sufficient periodic monitoring in Condition 6.4 and it is unclear how Test Method 201 (Method 201) will assure compliance with established limits;

11. the permit fails to require sufficient periodic monitoring in Condition 6.8 to ensure compliance with short-term BACT SO2 and CO limits for kiln #6 system;

12. the permit is flawed in Condition 6.12 because it implies an affirmative defense to the Permittee with respect to injunction relief; and

13. the permit provides an inappropriate broad exemption for maintenance in Conditions 8.4 & 8.5 for Continuous Emissions Monitoring (CEMs) and Continuous Opacity Monitors (COMs) which render the Conditions unenforceable as a practical matter.

On June 15, 2007, the Administrator issued an Order in response to Petitioners' allegations outlined above. The Order explains the reasons for partially granting and partially denying objection #2 and granting objection #8 and directs DENR to revise certain permit conditions for clarification and/or include applicable provisions in the permit. The Order also directs DENR to take specific steps to improve compliance demonstration with certain permit conditions. Finally, the Order explains the reasons for denying the Petitioners' remaining claims.

Dated: June 22, 2007.
Robert E. Roberts,
Regional Administrator, Region 8.

[FR Doc. E7-12852 Filed 7-2-07; 8:45 am]

BILLING CODE 6560-50-P